DEPARTMENT OF AGRICULTURE

Agricultural Marketing Service

[Doc. No. AMS-NOP-16-0085; NOP-16-06]

National Organic Program: Notice of Draft Guidance for Calculating the Percentage of Organic Ingredients in Multi-Ingredient Products; Extension of Comment Period

AGENCY: Agricultural Marketing Service, USDA.

ACTION: Notice of availability; extension of comment period.

SUMMARY: The Agricultural Marketing Service (AMS) is extending the comment period for the notice of availability of draft guidance that appeared in the Federal Register on December 6, 2016 (81 FR 87902). The draft guidance document is entitled: Calculating the Percentage of Organic Ingredients in Multi-Ingredient Products (NOP 5037). This notice extends the comment period for 60 days from February 6, 2017 to April 7, 2017. The Agency is taking this action in response to a request for an extension to allow interested persons additional time to submit comments.

DATES: All comments must be received on or before April 7, 2017.

ADDRESSES: You may submit comments on this draft guidance by any of the following methods:

• Federal eRulemaking Portal: http://www.regulations.gov. Follow the instructions for submitting comments.

• Mail: Paul I. Lewis, Ph.D., Standards Division Director, National Organic Program, USDA-AMS-NOP, 1400 Independence Ave. SW., Room 2646—So., Ag Stop 0268, Washington, DC 20250-0268.

Instructions: All submissions received must include the docket number AMS-NOP-16-0085; NOP-16-06. All comments should clearly indicate your position and the reasons supporting your position. If you are suggesting changes to the draft guidance document, you should include recommended language changes, as appropriate, along with any relevant supporting documentation. AMS is specifically requesting that stakeholders comment and quantify any impacts that the guidance will have on certified operations. AMS is also requesting comments from accredited certifying agents on the policy related to the calculation of multi-ingredient ingredients: How is the industry currently calculating organic products that use organic ingredients that contain several ingredients? What are the sound and sensible approaches currently being used? All comments received will be posted without change to www.regulations.gov.

Docket: For access to the docket, including the draft guidance document and comments received, go to www.regulations.gov. The draft guidance is also available from the AMS Web site at https://www.ams.usda.gov/rules-regulations/organic. Comments submitted in response to this notice will also be available for viewing in person at USDA-AMS, National Organic Program, Room 2646, South Building, 1400 Independence Ave. SW., Washington, DC, from 9 a.m. to noon and from 1 to 4 p.m., Monday through Friday (except official Federal holidays). Persons wanting to visit the USDA South building to view comments from the public to this notice are requested to make an appointment by calling (202) 720-3252.

FOR FURTHER INFORMATION CONTACT: Paul I. Lewis, Ph.D., Director, Standards Division, Telephone: (202) 720-3252; Fax: (202) 260-9151.

SUPPLEMENTARY INFORMATION: This notice extends the public comment period provided in the notice of availability of draft guidance for public comment published in the Federal Register on December 6, 2016 (81 FR 87902). In that notice, AMS announced the availability of draft guidance on calculating the percentage of organic ingredients in multi-ingredient organic products (NOP 5037) and solicited public comments. AMS is extending the public comment period, which was set to end on February 6, 2017, to April 7, 2017.

To submit comments, or access the draft guidance docket, please follow the instructions provided under the ADDRESSES section. If you have questions, consult the person listed under FOR FURTHER INFORMATION CONTACT.

Authority: 7 U.S.C. 6501-6522.

Dated: February 14, 2017.
Bruce Summers,
Acting Administrator, Agricultural Marketing Service.

[FR Doc. 2017-03254 Filed 2-16-17; 8:45 am]

BILLING CODE 3410-02-P